DEPARTMENT OF COMMERCE

International Trade Administration

[A-583-816]

Notice of Extension of Time Limit of the Preliminary Results of Antidumping Duty Administrative Review: Certain Stainless Steel Butt-Weld Fittings from Taiwan

AGENCY: Import Administration, International Trade Administration, Department of Commerce.

EFFECTIVE DATE: March 15, 2001.

FOR FURTHER INFORMATION CONTACT: Alex Villaneuva, AD/CVD Enforcement Group III, Office 9, Import Administration, International Trade Administration, U.S. Department of Commerce, 14th Street and Constitution Avenue, NW., Washington, DC 20230; telephone: (202) 482-0408.

SUPPLEMENTARY INFORMATION:

The Applicable Statute

Unless otherwise indicated, all citations to the Tariff Act of 1930, as amended (the Act) are to the provisions effective January 1, 1995, the effective date of the amendments made to the Act by the Uruguay Round Agreements Act. In addition, unless otherwise indicated, all citations to the Department of Commerce's (the Department's) regulations are to 19 CFR part 351 (April 2000).

Background

On July 31, 2000, the Department published a notice of initiation of the administrative review of the antidumping duty order on Stainless Steel Butt-Weld Pipe Fittings from Taiwan, covering the period June 1, 1999 through May 31, 2000 (65 FR 46687). The preliminary results are currently due no later than May 31, 2001. On January 9, 2001, the Department extended the preliminary results due date by 90 days (66 FR 1644).

Extension of Time Limit for Preliminary Results

Because of the complex issues enumerated in the Memorandum from Edward C. Yang to Joseph A. Spetrini, Extension of Time Limit for the Preliminary Results of Administrative Review of Stainless Steel Butt-Weld Pipe Fittings from Taiwan, dated March 6, 2001 and on file in the Central Records Unit (CRU) of the Main Commerce Building, Room B-099, we find that it is not practicable to complete this review by the scheduled deadline. Therefore, in accordance with section 751(a)(3)(A) of the Act, the Department is extending the time period for issuing the preliminary results of review by 30 days (i.e., until July 2, 2001).

Dated: March 6, 2001.
Joseph A. Spetrini,
Deputy Assistant Secretary, AD/CVD Enforcement Group III.

[FR Doc. 01-6472 Filed 3-14-01; 8:45 am]

BILLING CODE 3510-DS-P